INTERNATIONAL BOUNDARY AND WATER COMMISSION, UNITED STATES AND MEXICO

United States Section

Notice of Availability of a Draft Environmental Assessment for Alamito and Terneros Sediment and Vegetation Removal Below Presidio Flood Control Project, Presidio, Texas

AGENCY: United States Section, International Boundary and Water Commission, United States and Mexico.

ACTION: Notice of availability of the d raft Environmental Assessment (EA).

SUMMARY: Pursuant to Section 102(2)(c) of the National Environmental Policy Act of 1969; the Council on Environmental Quality Final Regulations (40 CFR parts 1500 through 1508); and the United States Section, Operational Procedures for Implementing Section 102 of NEPA, published in the Federal Register September 2, 1981, (46 FR 44083); the United States Section hereby gives notice that the Draft Environmental Assessment for Alamito and Terneros Sediment and Vegetation Removal below Presidio Flood Control Project, Presidio, Texas is available. An environmental impact statement will not be prepared unless additional information which may affect this decision is brought to our attention within 30-days from the date of this Notice.

FOR FURTHER INFORMATION CONTACT: Gilbert Anaya, Division Chief, Environmental Management Division; United States Section, International Boundary and Water Commission; 4171 N. Mesa, C-100; El Paso, Texas 79902. Telephone: (915) 832-4702, email: Gilbert.Anaya@ibwc.gov.

Background: This Draft Environmental Assessment analyzes the potential impacts of removing accumulated sediment from Alamito and Terneros Creeks at their confluence with the Rio Grande and removal of vegetation along the United States side of the Rio Grande between Brito Creek and Terneros Creek in Presidio County, Texas.

Availability: The electronic version of the Draft EA is available from the USIBWC Web page: www.ibwc.gov/Organization/Environmental/EIS_EA_Public_Comment.html.

Dated: November 4, 2016.
Rebecca A. Rizzuti,
Assistant Legal Advisor.

[FR Doc. 2016-28053 Filed 11-21-16; 8:45 am]

BILLING CODE 7010-01-P